DEPARTMENT OF TRANSPORTATION

Office of the Secretary

[Docket No. DOT-OST-2008-0088]

Agency Information Collection; Request for Comments; Clearance of Renewal Approval of Information Collection: Procedures for Transportation Drug Alcohol Testing Program

AGENCY: Office of the Secretary (OST) DOT.

ACTION: Notice and request for comments.

SUMMARY: In compliance with the Paperwork Reduction Act of 1995, Public Law 104-13, (44 U.S.C. 3501 et seq.) this notice announces the Information Collection Request, abstracted below, is being forwarded to the Office of Management and Budget for extension of the currently approved Procedures for Transportation Drug and Alcohol Testing Program. On March 17, 2008 the Office of Drug and Alcohol Policy and Compliance (ODAPC) published a 60-day notice in the Federal Register (73 FR 14300) Docket # OST-2008-0088, informing the public of ODAPC's intention to extend an approved information collection. Specifically, ODAPC solicited comments on whether the information collection is necessary for the proper performance of the functions of the Department, including whether the information will have practical utility. We asked whether the Department's estimate of the burden of the proposed information collection was accurate and for ways to enhance the quality, utility, and clarity of the information to be collected. The Department sought ways to minimize the burden for those who would have to provide information, including the use of automated collection techniques or other forms of information technology. One response, which contained several comments, was made to the docket. Among his comments, the respondent supported the Department's estimated burden hours associated with the collection and handling of each form and provided suggestions for updating the Alcohol Testing Form (ATF) and Management Information System (MIS) form. Each of the respondent's comments were addressed and are explained in the supporting statement to OMB. The ATF and MIS were updated to include an updated Paperwork Reduction Act Burden Statement, the current address of the Department, and DOT form numbers were added. We provided additional instructions on the reverse side of Page 3 of the ATF that tamper-evident tape must not obscure the printed information. Also, the legends in the test result boxes on the front of the ATF were adjusted and printed in a smaller font so they don't obscure test results printed directly on the ATF.

DATES: Written comments should be submitted by July 11, 2008 and sent to the attention of the DOT/OST Desk Officer, Office of Information and Regulatory Affairs, Office of Management and Budget, Docket library, Room 10102, 725 17th Street, NW., Washington, DC 20503 or oira_submission@omb.eop.gov (e-mail).

FOR FURTHER INFORMATION CONTACT: Bohdan Baczara, Office of Drug and Alcohol Policy and Compliance, Office of the Secretary, U.S. Department of Transportation, 1200 New Jersey Avenue, SE., Room W62-300, Washington, DC 20590.

SUPPLEMENTARY INFORMATION: Title: Procedures for Transportation Drug and Alcohol Testing Program.

OMB Control No.: 2105-0529.

Form No.: DOT F 1380 Alcohol Testing Form (ATF) and DOT F 1385 DOT Drug and Alcohol Testing Management Information System (MIS).

Affected Entities: Transportation Industry (i.e., Federal Aviation Administration, Federal Transit Administration, Federal Railroad Administration, Federal Motor Carrier Safety Administration, and the Pipeline and Hazardous Materials Safety Administration) and the United States Coast Guard when calculating their random testing rates.

Type of Review: Clearance and Renewal.

Frequency of Response: Annually.

Respondents: 2,783,195.

Total Annual Burden Hours Requested: 695,300.

Abstract: Under the Omnibus Transportation Employee Testing Act of 1991, DOT is required to implement a drug and alcohol testing program in various transportation-related industries. This specific requirement is elaborated in 49 CFR part 40, Procedures for Transportation Workplace Drug and Alcohol Testing Programs. Included in this program are the U.S. Department of Transportation Alcohol Testing Form (ATF) and the DOT Drug and Alcohol Testing Management Information System (MIS) Data Collection Form. The ATF includes the employee's name, the type of test taken, the date of the test, and the name of the employer. Custody and control is essential to the basic purpose of the alcohol testing program. Data on each test conducted, including test results, are necessary to document tests conducted and actions taken to ensure safety in the workplace. The MIS form includes employer specific drug and alcohol testing information such as the reason for the test and the cumulative number of positive, negative and refusal test results. The MIS data is used by each of the affected DOT Agencies (i.e., Federal Aviation Administration, Federal Transit Administration, Federal Railroad Administration, Federal Motor Carrier Safety Administration, and the Pipeline and Hazardous Materials Safety Administration) and the United States Coast Guard when calculating their random testing rates.

Comments Are Invited On: Whether the proposed collection of information is necessary for the proper performance of the functions of the Department, including whether the information will have practical utility; the accuracy of the Department's estimate of the burden of the proposed information collection; ways to enhance the quality, utility and clarity of the information to be collected; and ways to minimize the burden of the collection of information on respondents, including the use of automated collection techniques or other forms of information technology.

All responses to this notice will be summarized and included in the request for OMB approval. All comments will also become a matter of public record.

Issued in Washington, DC, on June 4, 2008.
Donna K. Seymour,
Associate Chief Information Officer, IT Policy Oversight.

[FR Doc. E8-13096 Filed 6-10-08; 8:45 am]

BILLING CODE 4910-9X-P